DEPARTMENT OF TRANSPORTATION

Federal Transit Administration

Preparation of Alternatives Analysis and Environmental Impact Statement for Commuter Corridor Between the Cities of Deland and Kissimmee, FL

AGENCY: Federal Transit Administration (FTA), Department of Transportation (DOT).

ACTION: Notice of intent to prepare an Environmental Impact Statement (EIS).

SUMMARY: The Federal Transit Administration (FTA); the Central Florida Regional Transportation Authority (locally known as LYNX); METROPLAN ORLANDO, the Metropolitan Planning Organization (MPO) for the Orlando and Kissimmee, Florida urbanized areas; the Volusia County Metropolitan Planning Organization (Volusia County MPO); and the Florida Department of Transportation (FDOT) intend to conduct scoping meetings and prepare an Alternatives Analysis leading to an Environmental Impact Statement (EIS) to evaluate commuter transportation improvements in the CSX Transportation (CSXT) freight rail corridor between the cities of Deland and Kissimmee, Florida in accordance with the National Environmental Policy Act of 1969 (NEPA), as amended.

This Notice of Intent is being published at this time to notify interested parties and to invite participation in the study. The study area will generally follow the existing CSXT Corridor from Deland, Florida to Kissimmee, Florida through the City of Orlando. The corridor analysis is necessary to explore alternative modes of north-south travel to Interstate 4 (I-4), currently under reconstruction and limited by capacity constraints.

The following alternatives will be evaluated in the study: (1) A baseline alternative based on existing LYNX operations, the most recent LYNX Transportation Development Plan for the corridor including but not limited to transit preferential treatments and/or Bus Rapid Transit (BRT) and other relevant studies. (2) Commuter Rail with Light Rail Transit (LRT), and without LRT, consistent with the METROPLAN ORLANDO 2020 Cost Feasible Long Range Plan associated bus feeder and public transit circulator service and the joint operations of CSXT. [Note: The alternative without LRT is to provide information to local decision makers as a part of the Long Range Plan update process and is not intended to be an alternative for consideration unless local decision makers modify the 2020 Cost Feasible Plan.] (3) A No Action Alternative with LRT.

DATES: Comment Due Date: Written comments on the scope of alternatives and impacts to be considered should be sent to Ms. LaChant Barnett, Project Manager, LYNX, 445 West Amelia Street, Suite 800, Orlando, Florida, 32801 by December 19, 2002. Scoping Meetings: Scoping for the study will be developed during review of previous studies and consultation with affected agencies and interested persons through correspondence and at public meetings.

ADDRESSES: A series of four public scoping meetings will be held in the corridor to explain the purpose of the study, describe the process that will be followed, define the limits of the study area, to answer any questions that may exist and to receive comments, thoughts and/or opinions relevant to the study. Dates, times and locations of the scoping meetings are as follows:

Tuesday, October 29, 2002, 11:30 am-1:30 p.m., Orlando Public Library—Albertson Conference Room—3rd Floor, 101 East Central Boulevard, Orlando, Florida 32801.

Wednesday, October 30, 2002, 5:30 p.m.-7:30 p.m., Kissimmee Courthouse, Board of County Commissioners Boardroom, 1 Courthouse Square, Suite 4700, Kissimmee, Florida 34741.

Wednesday, November 6, 2002, 5:30 p.m.-7:30 p.m., Eastmonte Civic Center, 830 Magnolia Drive, Altamonte Springs, FL 32701.

Thursday, November 7, 2002, 5:30 p.m.-7:30 p.m., DeBary Public Library, 200 North Charles R. Beall Blvd., DeBary, Florida 32713.

An Interagency Scoping Meeting has been scheduled for:

Tuesday, November 12, 2002, 9 a.m.-11 a.m., Lynx (Educational Leadership Center Building), 3rd Floor Board Media Room, 445 W. Amelia St., Suite 800, Orlando, FL 32801.

All meeting locations are accessible to persons with disabilities. In accordance with the Americans with Disabilities Act of 1990, persons needing a special accommodation at these meetings because of a disability or physical impairment should contact Mr. Ron Jones at LYNX, (407) 841-2279, at least 48 hours before the meeting. If hearing impaired, contact LYNX at (407) 423-0787 (TDD).

FOR FURTHER INFORMATION CONTACT: LaChant Barnett, Project Manager, LYNX, 445 West Amelia Street, Suite 800, Orlando, Florida, 32801. You may also contact Derek R. Scott, Community Planner, FTA, 61 Forsyth Street, SW, Suite 17T50, Atlanta, GA 30303, (404) 562-3500.

SUPPLEMENTARY INFORMATION:

1. Notice of Intent

This Notice of Intent to prepare an Alternatives Analysis leading to an Environmental Impact Statement is being published at this time to advise interested parties of the study and to invite their comments. FTA regulations and guidance in accordance with NEPA will be used in the analysis and preparation of the Central Florida North/South Commuter Corridor Study.

2. Scoping

The FTA, LYNX, METROPLAN ORLANDO, Volusia County MPO and FDOT invite comments both at the public meetings listed above and in writing for a period of 45 days following the last public meeting. Comments should focus on identifying specific social, economic or environmental impacts to be evaluated. Comments should focus on the scope of the alternatives and impacts to be considered.

Persons wishing to be placed on a mailing list to receive further information as the study progresses, Contact Ms. LaChant Barnett at LYNX, 445 West Amelia Street, Suite 800, Orlando, Florida 32801.

3. Study Area and Project Need

The study area is an approximately 55-mile corridor extending from the City of Deland in Volusia County to the City of Kissimmee in Osceola County passing through Seminole and Orange Counties including the City of Orlando. A potential fixed guideway transit project would operate in the existing CSXT railroad corridor, as an alternative north-south travel mode to Interstate 4.

4. Alternatives

The alternatives proposed for evaluation include:

(1) A Baseline Alternative based on existing LYNX operations, the most recent LYNX Transportation Development Plan for the corridor including but not limited to transit preferential treatments and/or Bus Rapid Transit (BRT), and other relevant studies. This alternative or a variation exhibiting “the best that can be done” will serve as a proposal to FTA for a New Starts Baseline.

(2) A Commuter Rail Alternative with Light Rail Transit (LRT), consistent with the METROPLAN ORLANDO 2020 Cost Feasible Plan; and, without LRT for informational purposes. This alternative will address the potential commuter rail service as well as other associated bus feeder and public transit circulator services. The alternative will also address the joint operations of CSXT mainline freight and passenger services and local freight services that operate in the existing CSXT corridor. The physical features of the alternative will also be defined.

(3) A No Action Alternative without LRT for the opening year 2005 and with LRT for the target years 2015 and 2025, based on the existing LYNX transit system plus improvements envisioned for two planning horizons as indicated in the Volusia County MPO and METROPLAN ORLANDO 2020 Cost Feasible Plans and proposed changes for 2025 plans. The No Action Alternative is to specifically include the 20 miles of LRT from just north of SR 436, south to SR 528 and any bus service improvements during the appropriate target years. Impacts to the regional transportation system resulting from the No Action Alternative will be identified.

5. Probable Effects

Should the study proceed from the Alternatives Analysis to an Environmental Impact Statement, preliminary steps will be taken to allow the FTA, LYNX, METROPLAN ORLANDO, Volusia County MPO and FDOT to evaluate the project's potential for significant adverse impacts during construction and operation and to identify feasible mitigation measures for those impacts. The specific analyses that would take place at that point are land use, neighborhood character, social conditions, economic conditions and displacement, visual and aesthetic considerations, historic resources, archaeological resources, transit (ridership, operations and maintenance), traffic, parking. Air quality, noise and vibration, energy, hazardous materials, water quality, natural resources (vegetation and wildlife), construction and construction impacts, cumulative impacts and environmental justice (disproportionate adverse impacts on minority and low-income populations).

This study is being completed concurrent with an SDEIS for the north-south LRT project. This project will utilize information from the SDEIS, as appropriate. Information on the LRT SDEIS may be obtained from Jennifer Stults, LYNX Project Manager, 445 West Amelia Street, Suite 800, Orlando, FL 32801, (407) 841-2279, jstults@golynx.com.

Issued on: October 18, 2002.
Jerry Franklin,
FTA Regional Administrator.

[FR Doc. 02-27095 Filed 10-23-02; 8:45 am]

BILLING CODE 4910-57-P